DEPARTMENT OF HEALTH AND HUMAN SERVICES

National Institutes of Health

National Institute of Neurological Disorders and Stroke; Amended Notice of Meeting

Notice is hereby given of a change in the meeting of the National Institute of Neurological Disorders and Stroke Special Emphasis Panel, November 27, 2023, 10:00 a.m. to November 28, 2023, 05:00 p.m., National Institutes of Health, Neuroscience Center, 6001 Executive Boulevard, Rockville, MD 20852 which was published in the Federal Register on November 13, 2023, FR Doc 2023-24961, 88 FR 77597.

This notice is being amended to change the dates of this two-day meeting to December 14, 2023, and December 15, 2023. The meeting time remains the same. The meeting is closed to the public.

Dated: November 28, 2023.
David W. Freeman,
Supervisory Program Analyst, Office of Federal Advisory Committee Policy.

[FR Doc. 2023-26450 Filed 11-30-23; 8:45 am]

BILLING CODE 4140-01-P